DEPARTMENT OF DEFENSE

Department of the Army, Corps of Engineers

Intent To Prepare an Environmental Impact Statement for the Western Everglades Restoration Project, Hendry, Broward, Collier Counties, Florida

AGENCY: Department of the Army, U.S. Army Corps of Engineers, DOD.

ACTION: Notice of intent.

SUMMARY: The Jacksonville District, U.S. Army Corps of Engineers (Corps) is beginning preparation of a National Environmental Policy Act assessment for the Western Everglades Restoration Project (WERP). The Everglades ecosystem, including Lake Okeechobee, encompasses a system of diverse wetland landscapes that are hydrologically and ecologically connected across more than 200 miles from north to south and across 18,000 square miles of southern Florida. In 2000, the U.S. Congress authorized the Federal government, in partnership with the State of Florida, to embark upon a multi-decade, multi-billion dollar Comprehensive Everglades Restoration Plan (CERP) to further protect and restore the remaining Everglades ecosystem while providing for other water-related needs of the region. CERP involves modification of the existing network of drainage canals and levees that make up the Central and Southern Florida Flood Control Project. One of the next steps for implementation of CERP is to identify opportunities within the tributary areas of Water Conservation Area (WCA) 3A to restore natural areas within the Big Cypress Seminole Indian Reservation and adjacent portions of Big Cypress National Preserve (BCNP) and the Miccosukee Indian Reservation. Encompassing approximately 440,000 acres located primarily in eastern Hendry County, WCA 3A tributary areas include the C-139, Feeder Canal and L-28 Gap Basins as well as the C-139 Annex and L-28 Interceptor. These areas are collectively called the Western Basins as they are located along the western edge of the Everglades and were historic flow ways. Both water supply and water quality of storm water runoff are challenges facing the Western Basins.

ADDRESSES: U.S. Army Corps of Engineers, Planning and Policy Division, Environmental Branch, P.O. Box 4970, Jacksonville, FL 32232-0019.

FOR FURTHER INFORMATION CONTACT: Melissa Nasuti at 904-232-1368 or email at melissa.a.nasuti@usace.army.mil. Additional information is also available at http://bit.ly/WesternEverglades.

SUPPLEMENTARY INFORMATION: a. Since 2000, much progress has been made. Construction has begun on the first generation of CERP project modifications already authorized by Congress. These include the Picayune Strand Restoration, the Indian River Lagoon South and Site 1 Impoundment Projects. Congressional authorization has been received for the second generation of CERP projects, including Biscayne Bay Coastal Wetlands—Phase 1, the Broward County Water Preserve Areas, the Caloosahatchee River (C-43) West Basin Storage Reservoir, and the C-111 Spreader Canal Western Project which are already under construction or are operational, and the Broward County Water Preserve Areas which is currently being designed. The Central Everglades Planning Project is currently awaiting congressional authorization. All of these CERP projects contribute significant ecological benefits to the system and the specific regional habitats in which they are located. The original CERP Project identified to restore and reconnect the western Everglades ecosystem was called the Big Cypress/L-28 Interceptor Modification. The purpose of this project, as defined within the CERP, is to reestablish sheet flow from the West Feeder Canal across the Big Cypress Seminole Indian Reservation and into BCNP, maintain flood protection on Seminole Tribal lands, and ensure that inflows to the North and West Feeder Canals meet applicable water quality standards. Project features considered under CERP include modification of levees and canals, water control structures, pumps, and stormwater treatment areas with a total storage capacity of 7,600 acre-feet located within and adjacent to the Miccosukee and Seminole Indian Reservations in Collier and Hendry Counties. This CERP component will serve as the starting point for the WERP and will be refined through the planning process.

b. The objectives of the WERP are to improve the quality, quantity, timing and distribution of water needed to restore and reconnect the western Everglades ecosystem.

c. A scoping letter will be used to invite comments from Federal, State, and local agencies, affected Indian tribes, and other interested private organizations and individuals.

d. A scoping meeting will be held August 16th, 2016 from 6:30 to 9:00 p.m. at the John Boy Auditorium, 1200 South W.C. Owen Avenue, Clewiston, Florida 33440.

e. All alternative plans will be reviewed under provisions of appropriate laws and regulations, including the Endangered Species Act, Fish and Wildlife Coordination Act, Clean Water Act, and Farmland Protection Policy Act.

f. The Draft Environmental Impact Assessment is expected to be available for public review in late 2017.

Dated: July 12, 2016.
Eric P. Summa,
Chief, Planning and Policy Division.

[FR Doc. 2016-17686 Filed 7-25-16; 8:45 am]

BILLING CODE 3720-58-P